DEPARTMENT OF COMMERCE

International Trade Administration

[A-570-992]

Monosodium Glutamate From the People's Republic of China: Notice of Intent To Address Covered Merchandise Referral in Ongoing Circumvention Inquiry

AGENCY: Enforcement and Compliance, International Trade Administration, Department of Commerce.

SUMMARY: The U.S. Department of Commerce (Commerce) has received a covered merchandise referral from U.S. Customs and Border Protection (CBP) in connection with a CBP investigation concerning alleged evasion of the antidumping duty (AD) order on monosodium glutamate (MSG) from the People's Republic of China (China). Commerce intends to address the covered merchandise referral in Commerce's ongoing circumvention inquiry (Malaysia Assembly) to determine whether merchandise described in the referral is subject to the AD order on MSG from China. Interested parties are invited to comment and submit factual information.

DATES: Applicable January 14, 2025.

FOR FURTHER INFORMATION CONTACT: Thomas Cloyd at (202) 482-1246 or Jacob Saude at (202) 482-0981, AD/CVD Operations Office VII, Enforcement & Compliance, International Trade Administration, U.S. Department of Commerce, 1401 Constitution Avenue NW, Washington, DC 20230.

SUPPLEMENTARY INFORMATION:

Background

Section 517(b)(4)(A) of the Tariff Act of 1930, as amended (the Act), provides a procedure whereby if, during the course of an Enforce and Protect Act (EAPA) investigation, CBP is unable to determine whether the merchandise at issue is covered merchandise within the meaning of section 517(a)(3) of the Act, it shall refer the matter to Commerce to make such a determination. Section 517(a)(3) of the Act defines covered merchandise as merchandise that is subject to an antidumping duty order issued under section 736 of the Act or a countervailing duty order issued under section 706 of the Act. Section 517(b)(4)(B) of the Act states that Commerce, after receiving a covered merchandise referral from CBP, shall determine whether the merchandise is covered merchandise and promptly transmit its determination to CBP. Commerce's regulations at 19 CFR 351.227 establish procedures for covered merchandise referrals that Commerce receives from CBP in connection with an EAPA investigation.¹

¹ See Regulations to Improve Administration and Enforcement of Antidumping and Countervailing Duty Laws, 86 FR 52300, 52354-62 (September 20, 2021) (final rule promulgating the regulation establishing procedures for covered merchandise referrals).

On December 18, 2024, Commerce received a covered merchandise referral from CBP regarding CBP EAPA Investigation No. 7950.² which concerns the AD order on MSG from China.³ Specifically, CBP explained that an allegation as filed by Ajinomoto Health & Nutrition North America, Inc., alleges that MSG exported by Ajinoriki MSG (Malaysia) Sdn Bhd and imported by CPF Legacy, LLC, doing business as C. Pacific Foods (CPF), Handylee Enterprises (USA) Corp., Jefi Enterprise (USA) Inc., and Highland USA International Inc. (collectively, the importers) is potentially subject to the Order. CBP informed Commerce that CBP is unable to determine whether certain merchandise constitutes covered merchandise consistent with 19 CFR 351.227(a). Thus, CBP has requested that Commerce issue a determination as to whether MSG produced in Malaysia by Ajinoriki MSG (Malaysia) Sdn Bhd by processing of Chinese-origin glutamic acid into MSG is covered by the Order.

² See Letter from CBP, “Scope Determination Referral Request for EAPA Consolidated Investigation 7950 on Antidumping Duty Order A-570-992 on Monosodium Glutamate from the People's Republic of China” dated December 18, 2024. The covered merchandise referral and any supporting documents will be made available on Enforcement and Compliance's Antidumping Duty and Countervailing Duty Centralized Electronic Service System (ACCESS).

³ See Monosodium Glutamate from the People's Republic of China: Amended Final Determination of Sales at Less Than Fair Value, 79 FR 70505 (November 26, 2014) (Order).

Notification of Intent To Address Covered Merchandise Referral in Ongoing Circumvention Inquiry

Pursuant to 19 CFR 351.227(b), within 20 days after receiving a covered merchandise referral from CBP, Commerce will either initiate a covered merchandise inquiry or decide to address the covered merchandise referral in an ongoing segment of the proceeding. Commerce is currently conducting a circumvention inquiry to determine whether MSG finished in Malaysia using glutamic acid produced in China and subsequently exported from Malaysia to the United States should be included in the scope of the Order.⁴ As the covered merchandise referral requests a determination on merchandise currently under consideration, in accordance with 19 CFR 351.227(b)(2), the covered merchandise referral can be addressed as part of the ongoing circumvention inquiry on MSG finished in Malaysia from Chinese inputs. Therefore, Commerce is hereby notifying interested parties of its intent to address CBP's covered merchandise referral in the ongoing circumvention inquiry segment of this proceeding, to determine whether the merchandise subject to the referral is covered merchandise within the meaning of section 517(a)(3) of the Act. We intend to notify CBP as to whether the merchandise subject to the referral is covered merchandise within the meaning of section 517(a)(3) of the Act based on our final determination in the ongoing circumvention inquiry segment of this proceeding.

⁴ See Monosodium Glutamate from the People's Republic of China: Initiation of Circumvention Inquiry on the Antidumping Duty Order, 89 FR 42425 (May 15, 2024) (Initiation Notice).

Commerce intends to provide interested parties with the opportunity to participate in the circumvention inquiry segment of the proceeding, including through the submission of comments and, as appropriate, factual information, and verification. The current deadline for Commerce to issue a preliminary circumvention determination in the ongoing circumvention inquiry is January 17, 2025.

Parties are hereby notified that this may be the only notice that Commerce publishes in the Federal Register concerning this covered merchandise referral. Except as indicated below, interested parties that wish to participate in the ongoing circumvention inquiry must submit their entry of appearance as discussed below. Further, any representative of an interested party desiring access to business proprietary information in this segment of the proceeding must file an application for access to business proprietary information under administrative protective order (APO), as discussed below.

Scope of the Order

The product covered by this Order is monosodium glutamate (MSG), whether or not blended or in solution with other products. Specifically, MSG that has been blended or is in solution with other product(s) is included in this scope when the resulting mix contains 15 percent or more of MSG by dry weight. Products with which MSG may be blended include, but are not limited to, salts, sugars, starches, maltodextrins, and various seasonings. Further, MSG is included in this Order regardless of physical form (including, but not limited to, in monohydrate or anhydrous form, or as substrates, solutions, dry powders of any particle size, or unfinished forms such as MSG slurry), end-use application, or packaging.

MSG in monohydrate form has a molecular formula of C5H8NO4Na—H2O, a Chemical Abstract Service (CAS) registry number of 6106-04-3, and a Unique Ingredient Identifier (UNII) number of W81N5U6R6U. MSG in anhydrous form has a molecular formula of C5H8NO4Na, a CAS registry number of l42-47-2, and a UNII number of C3C196L9FG.

Merchandise covered by the scope of this Order is currently classified in the Harmonized Tariff Schedule of the United States (HTSUS) at subheading 2922.42.10.00. Merchandise subject to the order may also enter under HTSUS subheadings 2922.42.50.00, 2103.90.72.00, 2103.90.74.00, 2103.90.78.00, 2103.90.80.00, and 2103.90.90.91. The tariff classifications, CAS registry numbers, and UNII numbers are provided for convenience and customs purposes; however, the written description of the scope is dispositive.

Merchandise Described in Covered Merchandise Referral To Be Addressed in Ongoing Circumvention Inquiry

The ongoing circumvention inquiry addresses whether the scope should include MSG finished in Malaysia using glutamic acid produced in China and subsequently exported from Malaysia to the United States. Pursuant to 19 CFR 351.226(m)(1), Commerce will consider, based on the available record evidence, whether the final determination in the ongoing circumvention inquiry as it relates to the products described in the referral should be applied on a (i) producer-specific, exporter-specific, importer-specific basis, or some combination thereof; or (ii) on a country-wide basis, regardless of the producer, exporter, or importer, to all products from the same country with the same relevant physical characteristics as the product at issue.

Filing Requirements

All submissions to Commerce must be filed electronically via Enforcement and Compliance (E&C)'s Antidumping Duty and Countervailing Duty Centralized Electronic Service System (ACCESS), unless an exception applies.⁵ An electronically filed document must be received successfully in its entirety by the applicable deadline. Note that Commerce has modified certain of its requirements for serving documents containing business proprietary information until further notice.⁶ Each submission must be placed on the record of the segment of the proceeding.

⁵ See Antidumping and Countervailing Duty Proceedings: Electronic Filing Procedures; Administrative Protective Order Procedures, 76 FR 39263 (July 6, 2011), as amended in Enforcement and Compliance; Change of Electronic Filing System Name, 79 FR 69046 (November 20, 2014) for details of Commerce's electronic filing requirements, effective August 5, 2011. Information on help using ACCESS can be found at https://access.trade.gov/help.aspx and a handbook can be found at https://access.trade.gov/help/Handbook%20on%20Electronic%20Filing%20Procedures.pdf.

⁶ See Temporary Rule Modifying AD/CVD Service Requirements Due to COVID-19, 85 FR 17006 (March 26, 2020); see also Temporary Rule Modifying AD/CVD Service Requirements Due to COVID19; Extension of Effective Period, 85 FR 41363 (July 10, 2020).

Suspension of Liquidation

Commerce previously notified CBP of the initiation of the ongoing circumvention inquiry in accordance with 19 CFR 351.226(l)(1), and directed CBP to continue to suspend liquidation of entries of products subject to the circumvention inquiry that were already subject to the suspension of liquidation, and to collect the cash deposit for estimated antidumping duties that would be applicable if the product were determined to be covered by the scope of the Order. CBP should continue to suspend liquidation of entries already subject to the suspension of liquidation in accordance with Commerce's previous instruction.

Notification to Interested Parties

Interested parties that wish to participate in this segment of the proceeding and be added to the public service list(s) for this segment of the proceeding must file an entry of appearance in accordance with 19 CFR 351.103(d)(1), with one exception: the relevant parties to CBP's EAPA investigation publicly identified by CBP in the covered merchandise referral referenced above are not required to submit an entry of appearance, and will be added to the public service list for this segment of the proceeding by Commerce.

Commerce placed an APO on the record on May 10, 2024.⁷ Commerce intends to place the business proprietary versions of the documents (if any) contained in the covered merchandise referral on the record of this proceeding in ACCESS.

⁷ See Memorandum, “Request for APO Segment,” dated May 8, 2024.

Representatives of interested parties must submit applications for disclosure under the APO in accordance with the procedures outlined in Commerce's regulations at 19 CFR 351.305. Those procedures apply to this segment of the proceeding, with one exception: APO applicants representing the parties that have been identified by CBP as an importer in the covered merchandise referral (referenced above) are exempt from the additional filing requirements for importers pursuant to 19 CFR 351.305(d).

This notice is issued and published pursuant to section 517(b)(4) of the Act and 19 CFR 351.227(b).

Dated: January 7, 2025.
Scot Fullerton,
Acting Deputy Assistant Secretary for Antidumping and Countervailing Duty Operations.

[FR Doc. 2025-00560 Filed 1-13-25; 8:45 am]

BILLING CODE 3510-DS-P